DEPARTMENT OF TRANSPORTATION

Federal Aviation Administration

Notice of Availability for the Written Re-Evaluation of the Final Programmatic Environmental Assessment and Mitigated Finding of No Significant Impact and Record of Decision for the SpaceX Starship/Super Heavy Launch Vehicle Program at the SpaceX Boca Chica Launch Site in Cameron County, Texas Regarding Vehicle Ocean Landings and Launch Pad Detonation Suppression System Water

AGENCY: Federal Aviation Administration (FAA), Department of Transportation (DOT).

ACTION: Notice of availability.

SUMMARY: In accordance with the National Environmental Policy Act of 1969, as amended, Council on Environmental Quality NEPA-implementing regulations, and FAA Order 1050.1F, Environmental Impacts: Policies and Procedures, the FAA is announcing the availability of the Written Re-Evaluation for the Final Programmatic Environmental Assessment and Mitigated Finding of No Significant Impact and Record of Decision for the SpaceX Starship/Super Heavy Launch Vehicle Program regarding Vehicle Ocean Landings and Launch Pad Detonation Suppression System Water at the SpaceX Boca Chica Launch Site in Cameron County, Texas.

FOR FURTHER INFORMATION CONTACT: Amy Hanson, FAA Environmental Specialist, Federal Aviation Administration, 800 Independence Ave. SW, Suite 325, Washington, DC 20591; phone 847-243-7609; email Amy.Hanson@faa.gov.

SUPPLEMENTARY INFORMATION: The Written Re-Evaluation evaluated whether supplemental environmental analysis was needed to support the FAA Office of Commercial Space Transportation decision to issue a vehicle operator license to SpaceX for the operation of the Starship/Super Heavy launch vehicle at its existing Boca Chica Launch Site in Cameron County, Texas. The affected environment and environmental impacts of Starship/Super Heavy operations at the Boca Chica Launch Site were analyzed in the 2022 Final Programmatic Environmental Assessment for the SpaceX Starship/Super Heavy Launch Vehicle Program at the SpaceX Boca Chica Launch Site in Cameron County, Texas (2022 PEA). The FAA issued a Mitigated Finding of No Significant Impact and Record of Decision based on the 2022 Programmatic Environmental Assessment on June 13, 2022.

The FAA prepared the 2022 Programmatic Environmental Assessment to analyze the potential environmental impacts of constructing launch-related infrastructure and operating the Starship/Super Heavy launch vehicle at the Boca Chica Launch Site. SpaceX's proposed operations include launches originating from this site, as well as landings at this site, in the Gulf of Mexico, or in the Pacific Ocean off the coast of Hawaii. SpaceX has applied to the FAA for a license to conduct these operations with its Starship/Super Heavy launch vehicle. Prior to submitting a vehicle operator license application to the FAA, SpaceX provided the FAA with a launch profile of proposed launch operations, which was analyzed in the 2022 Programmatic Environmental Assessment.

Since the 2022 Programmatic Environmental Assessment, SpaceX provided the FAA with additional information regarding Starship's planned landing, Super Heavy's planned soft water landing, and the Launch Pad Detonation Suppression System. The FAA completed a Written Re-Evaluation for the Final Programmatic Environmental Assessment and Mitigated Finding of No Significant Impact and Record of Decision for the SpaceX Starship/Super Heavy Launch Vehicle Program regarding Vehicle Ocean Landings and the Launch Pad Detonation Suppression System at the SpaceX Boca Chica Launch Site in Cameron County, Texas. The final Written Re-Evaluation is available at: www.faa.gov/space/stakeholder_engagement/spacex_starship.

Based on the analysis within the Written Re-Evaluation, the FAA concluded that the issuance of a vehicle operator license for Starship/Super Heavy operations conforms to the prior environmental documentation, that the data contained in the 2022 Programmatic Environmental Assessment remains substantially valid, that there are no significant environmental changes, and all pertinent conditions and requirements of the prior approval have been met or will be met in the current action. Therefore, the preparation of a supplemental or new environmental document is not necessary to support the Proposed Action.

Issued in Washington, DC, on: April 14th, 2023.
Stacey Molinich Zee,
Manager, Operations Support Branch, Office of Commercial Space Transportation.

[FR Doc. 2023-08325 Filed 4-19-23; 8:45 am]

BILLING CODE 4910-13-P